DEPARTMENT OF HOMELAND SECURITY

Coast Guard

33 CFR Part 165

[Docket No. USCG-2017-0390]

Safety Zone; PUSH Beaver County/Beaver County Boom, Ohio River, Miles 25.2 to 25.6, Beaver, PA

AGENCY: Coast Guard, DHS.

ACTION: Notice of enforcement of regulation.

SUMMARY: The Coast Guard will enforce the subject safety zone for the PUSH Beaver County/Beaver County Boom Fireworks on the Ohio River. The zone is needed to protect vessels transiting the area and event spectators from the hazards associated with the PUSH Beaver County/Beaver County Boom barge-based firework display. During the enforcement period, entry into, transiting, or anchoring in the safety zone is prohibited to all vessels not registered with the sponsor as participants or official patrol vessels, unless specifically authorized by the Captain of the Port Marine Safety Unit Pittsburgh (COTP) or a designated representative.

DATES: The regulations in Table 1 in 33 CFR 165.801, No. 45, will be enforced from 8:30 p.m. until 10:30 p.m., on June 24, 2017.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the safety zone for the annual PUSH Beaver County/Beaver County Boom Fireworks listed in the regulations in Table 1 in 33 CFR 165.801, No. 45, from 8:30 p.m. to 10:30 p.m. on June 24, 2017. The safety zone extends the entire width of the Ohio River from mile 25.2 to 25.6. The zone is needed to protect vessels transiting the area and event spectators from the hazards associated with the PUSH Beaver County/Beaver County Boom barge-based firework display. Entry into the safety zone is prohibited unless authorized by the Captain of the Port Marine Safety Unit Pittsburgh (COTP) or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide the maritime community with advance notification of these enforcement periods via Local Notice to Mariners and updates via Marine Information Broadcasts.

L. Mcclain, Jr.,
Commander, U.S. Coast Guard, Captain of the Port Marine Safety Unit Pittsburgh.

[FR Doc. 2017-11620 Filed 6-5-17; 8:45 am]

BILLING CODE 9110-04-P